GENERAL SERVICES ADMINISTRATION

[OMB Control No. 3090-0246; Docket 2012-0001 Sequence 15]

General Services Administration Regulation; Submission for OMB Review; Packing List Clause

AGENCY: Office of Acquisition Policy, GSA.

ACTION: Notice of request for an extension of a information collection requirement for an existing OMB clearance.

SUMMARY: Under the provisions of the Paperwork Reduction Act, the Regulatory Secretariat will be submitting to the Office of Management and Budget (OMB) a request to review and approve an extension of a previously approved information collection requirement regarding the packing list clause. A notice was published in the Federal Register at 77 FR 66466, on November 5, 2012. One respondent submitted comments.

DATES: Submit comments on or before: March 18, 2013.

ADDRESSES: Submit comments identified by Information Collection 3090-0246, Packing List Clause, by any of the following methods:

• Regulations.gov: http://www.regulations.gov.

Submit comments via the Federal eRulemaking portal by searching the OMB control number. Select the link “Submit a Comment” that corresponds with “Information Collection 3090-0246, Packing List Clause”. Follow the instructions provided at the “Submit a Comment” screen. Please include your name, company name (if any), and “Information Collection 3090-0246, Packing List Clause” on your attached document.

• Fax: 202-501-4067.

• Mail: General Services Administration, Regulatory Secretariat (MVCB), 1275 First Street NE., Washington, DC 20417. ATTN: Hada Flowers/IC 3090-0246, Packing List Clause.

Instructions: Please submit comments only and cite Information Collection 3090-0246, Packing List Clause, in all correspondence related to this collection. All comments received will be posted without change to http://www.regulations.gov, including any personal and/or business confidential information provided.

FOR FURTHER INFORMATION CONTACT: Deborah Eble, Procurement Analyst, GSA Policy Integrity Workforce, by telephone (215) 446-5823 or via email at Deborah.eble@gsa.gov.

SUPPLEMENTARY INFORMATION:

A. Purpose

GSAR clause 552.211-77, Packing List, requires a contractor to include a packing list or other suitable document that verifies placement of an order and identifies the items shipped. In addition to information contractors would normally include on packing lists, the identification of cardholder name, telephone number and the term “Credit Card” is required.

B. Discussion and Analysis

One respondent submitted comments on the extension of the previously approved information collection, specifically questioning the government's calculation of the public burden.

Comment: The respondent commented that the extension of the information collection would violate the fundamental purposes of the Paperwork Reduction Act because of the burden it puts on the entity submitting the information and the agency collecting the information. The respondent opposes granting the extension of the information collection requirement.

Response: In accordance with the Paperwork Act (PRA), agencies can request OMB approval of an existing information collection. The PRA requires that agencies use the Federal Register notice and comment process to extend the OMB's approval every three years. This extension to a previously approved information collection pertains to the provision at GSAR 552.211-77, Packing List, which requires contractors to include a packing list that verifies the placement of the order and identifies the items shipped, a normal commercial practice. In addition to the information contractors would normally include on packing lists, the government requires identification of the name of the government credit cardholder, telephone number and the term “Credit Card” on the packing list in supply contracts.

The purpose of the information collection is to facilitate administration of government credit card purchases. Often the government credit cardholder is different from the consignee receiving shipment of the supplies. Providing the additional information ensures the recipient of the packing list, the consignee, notifies the government credit cardholder that the shipment has been received. Once the notification of successful shipment has been received, the cardholder can then authorize payment. This feedback is essential for the cardholder to reconcile his/her monthly statements. This is especially important if the micropurchase threshold is raised to support a contingency operation declaration under FAR subpart 18.2. Not granting this extension would increase costs to the Government during the reconciliation process and may delay payments to contractors for shipments of supplies received.

Comment: The respondent challenged the estimates used by the agency to calculate the public burden, stating that the burden was insufficient and inadequate to reflect the actual total burden. Specifically, the respondent noted that it was unclear as to how the estimated 4,000 information collection respondents were derived and the estimated number of packing lists in a given year. Therefore, the respondent stated the agency should utilize actual data from the last fiscal year or an estimate of the last three to five fiscal years, reassess the estimated burden, and revise it upwards to be more accurate as was done in FAR Case 2007-006. The respondent also found the “less than one minute per response estimate” to be unrealistically low stating the burden requires creating the packing list.

Response: Serious consideration is given during the open comment period to all comments received and adjustments are made to the paperwork burden estimate when necessary. The burden is prepared taking into consideration the necessary criteria in OMB guidance for estimating the paperwork burden put on the entity submitting the information. Consideration is given to an entity in reviewing the instruction; using technology to collect, process and disclose information; adjusting existing practices to comply with requirements; searching data sources; completing and reviewing the response and transmitting or disclosing information. Estimated burden hours only include those actions that exceed those a company would take in the normal course of business.

Careful consideration went into assessing the burden for this collection. Packing lists accompanying shipments of supplies are customary in the normal course of business, including the information listed in paragraph (a) of clause 552.211-77. The public burden is limited to the annotation on the packing list the name and telephone number of the government credit cardholder and the phrase “Credit Card.”

While there is no centralized database for the collection of the packing lists in a fiscal year, the agency found the respondent's suggestion to use actual data reasonable to calculate the public burden. The annual reporting burden was revised, using actual data from the government-wide Federal Procurement Data System (FPDS) for Fiscal Year (FY) 2012. Two types of actions were analyzed: GSA actions for supplies where the method of payment was made by government credit card; and, non-GSA actions for supplies where both payment was by a government credit card and a GSA indefinite delivery contract for supplies was referenced. Average costs were derived in order for the government to estimate the number of packing slips per order. Thus, an adjustment is made to the annual reporting burden after review of the methodology for computing the number of respondents and packing lists in a given year and the estimated hours per response.

The government agreed with the respondent that the time per response did not allow for review and transmission of the government credit cardholder's name and telephone number and the phrase “Credit Card” into its packing list system and adjusted the burden accordingly.

Members of the public may submit comments for further consideration and are encouraged to provide data to support their request for an adjustment.

C. Annual Reporting Burdens

Respondents: 9,919.

Responses per Respondent: 13.

Hours per Response: .05.

Total Burden Hours: 6447.

Obtaining Copies of Proposals: Requesters may obtain a copy of the information collection documents from the General Services Administration, Regulatory Secretariat (MVCB), 1275 First Street NE., Washington, DC 20417, telephone (202) 501-4755. Please cite OMB Control No. 3090-0246, Packing List Clause, in all correspondence.

Dated: February 8, 2013.
Joseph A Neurauter,
Director, Office of Acquisition Policy, Senior Procurement Executive.

[FR Doc. 2013-03558 Filed 2-14-13; 8:45 am]

BILLING CODE 6820-61-P